SECURITIES AND EXCHANGE COMMISSION

[OMB Control No. 3235-0597]

Agency Information Collection Activities; Submission for OMB Review; Comment Request; Extension: Rule 31 and Form R31

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission” or “SEC”) is submitting to the Office of Management and Budget (“OMB”) this request for extension of the proposed collection of information provided for in Rule 31 (17 CFR 240.31) and Form R31 (17 CFR 249.11), under the Securities Exchange Act of 1934 (“Exchange Act”) (15 U.S.C. 78a et seq.).

Section 31 of the Exchange Act requires the Commission to collect fees and assessments from national securities exchanges and national securities associations (collectively, “self-regulatory organizations” or “SROs”) based on the volume of their securities transactions. To collect the proper amounts, the Commission adopted Rule 31 and Form R31 under the Exchange Act whereby each SRO must report to the Commission the volume of its securities transactions and the Commission, based on those data, calculates the amount of fees and assessments that each SRO owes pursuant to Section 31. Rule 31 and Form R31 require each SRO to provide these data on a monthly basis.

Currently, there are 31 respondents under Rule 31 that are subject to the collection of information requirements of Rule 31: 28 national securities exchanges, 1 national securities association, and 2 registered clearing agencies that are required to provide certain data in their possession needed by the SROs to complete Form R31, although these 2 clearing agencies are not themselves required to complete and submit Form R31. The Commission estimates that the total burden for all 31 respondents is 480 hours per year. The Commission estimates that, based on previous and current experience, 3 additional national securities exchanges will become registered and subject to the reporting requirements of Rule 31 over the course of the authorization period and collectively incur a burden of 18 hours per year. Thus, the Commission estimates the collective burden for all respondents (existing and new added together) to be 498 hours per year. The Commission does not believe that the 31 existing or 3 expected new respondents will have to incur any capital or start-up costs, or any additional operational or maintenance costs (other than as already discussed in this paragraph), to comply with the collection of information requirements imposed by Rule 31 and Form R31.

An agency may not conduct or sponsor, and a person is not required to respond to, a collection of information unless it displays a currently valid OMB Control Number.

Written comments are invited on: (a) whether this proposed collection of information is necessary for the proper performance of the functions of the Commission, including whether the information will have practical utility; (b) the accuracy of the Commission's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202505-3235-001 or email comment to MBX.OMB.OIRA.SEC_desk_officer@omb.eop.gov within 30 days of the day after publication of this notice, by September 8, 2025.

Dated: August 4, 2025.
Sherry R. Haywood,
Assistant Secretary.

[FR Doc. 2025-14929 Filed 8-5-25; 8:45 am]

BILLING CODE 8011-01-P